ENVIRONMENTAL PROTECTION AGENCY

[EPA-R07-SFUND-2011-0285; FRL-9281-3]

Proposed CERCLA Administrative “Cost Recovery” Settlement; The Goldfield Corporation

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement for recovery of past and projected future response costs concerning the Newton County Mine Tailings Superfund Site in Newton County, Missouri with the following settling party: The Goldfield Corporation. The settlement requires the settling party to pay $76,630, to the Hazardous Substance Superfund. The settlement includes a covenant not to sue the settling party pursuant to Sections 106 and 107(a) of CERCLA, 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at: Granby City Hall, 302 North Main Street, Granby, Missouri 64844; Neosho Public Library, 201 West Spring Street, Neosho, Missouri 64850; and Environmental Protection Agency, Region VII Docket Room, 901 North Fifth Street, Kansas City, KS 66101.

DATES: Comments must be submitted on or before April 18, 2011.

ADDRESSES: The proposed settlement is available for public inspection at the Environmental Protection Agency, Region VII Docket Room, 901 North Fifth Street, Kansas City, KS 66101. A copy of the proposed settlement may be obtained from Kathy Robinson, Regional Hearing Clerk, Environmental Protection Agency, Region VII, 901 North Fifth Street, Kansas City, KS 66101, 913-551-7567. Comments should reference the Newton County Mine Tailings Superfund Site, Newton County, Missouri, and EPA Docket No. CERCLA-07-2011-0002, and should be addressed to Kathy Robinson, Regional Hearing Clerk, Environmental Protection Agency, Region VII, 901 North Fifth Street, Kansas City, KS 66101.

FOR FURTHER INFORMATION CONTACT: D. Mark Doolan, Remedial Project Manager, Superfund Division, Environmental Protection Agency, Region VII, 901 North Fifth Street, Kansas City, KS 66101, doolan.mark@epa.gov; or at 913-551-7169.

Dated: March 8, 2011.
Cecilia Tapia,
Director, Superfund Division, Region 7.

[FR Doc. 2011-6226 Filed 3-16-11; 8:45 am]

BILLING CODE 6560-50-P